DEPARTMENT OF TRANSPORTATION

Federal Transit Administration

[FTA Docket No. FTA-2015-0034]

Agency Information Collection Activity Under OMB Review

AGENCY: Federal Transit Administration, DOT.

ACTION: Notice of request for comments.

SUMMARY: The Federal Transit Administration invites public comment about its intention to request the Office of Management and Budget's (OMB) approval to renew the following information collection:

Bus Testing Program

The information to be collected for the Bus Testing Program is necessary to ensure that buses have been tested at the Bus Testing Center for maintainability, reliability, safety, performance (including breaking performance), structural integrity, fuel economy, emissions, and noise. Specifically, this notice invites comment on FTA's proposal to adopt new streamlined online procedures for accepting and reviewing applications for entry into the New Bus Model Testing Program. The Federal Register notice with a 60-day comment period soliciting comments for the Bus Testing Program was published on November 4, 2015 (Citation 80 FR 213). No comments were received from that notice.

DATES: Comments must be submitted before February 16, 2016. A comment to OMB is most effective, if OMB receives it within 30 days of publication.

FOR FURTHER INFORMATION CONTACT: Tia Swain, Office of Administration, Office of Management Planning, (202) 366-0354.

SUPPLEMENTARY INFORMATION:

Title: Bus Testing Program.

OMB Number: 2132-0550.

Abstract: The Bus Testing Program is a series of tests performed on new transit vehicles or existing vehicles that have been previously tested, but have undergone significant/major changes to their design. Bus Testing is required by law, for any model bus that will be purchased using federal funds. Before federal funds can be expended, the grantee certifies to FTA that the bus models being procured are compliant with 49 CFR 665 Bus Testing. In turn, FTA grantees delegate the burden of demonstrating compliance to the bus manufacturers. The Bus Testing Program provides assistance to transit bus manufacturers with achieving compliance with the testing requirement. A variety of information is collected from bus manufacturers during the bus testing process.

Estimated Total Burden: 205 hours.

ADDRESSES: All written comments must refer to the docket number that appears at the top of this document and be submitted to the Office of Information and Regulatory Affairs, Office of Management and Budget, 725 17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

William Hyre,
Deputy Associate Administrator for Administration.

[FR Doc. 2016-00715 Filed 1-14-16; 8:45 am]

BILLING CODE P